DEPARTMENT OF HOUSING AND URBAN DEVELOPMENT

[Docket No. FR-4907-N-5]

Notice of Proposed Information Collection: Comment Request; Mortgagee's Application for Partial Settlement, Multifamily Mortgage

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: May 10, 2004.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Betty Belin, Accountant, Office of Financial Services, Department of Housing and Urban Development, 451 7th Street, SW., Washington, DC 20410, telephone (202) 401-2168 (this is not a toll free number) for copies of the proposed forms and other available information.

SUPPLEMENTARY INFORMATION: The Department is submitting the proposed information collection to OMB for review, as required by the Paperwork Reduction Act of 1995 (44 U.S.C. chapter 35, as amended).

This notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This notice also lists the following information:

Title of Proposal: Mortgagee's Application for Partial Settlement, Multifamily Mortgage.

OMB Control Number, if applicable: 2505-0427.

Description of the need for the information and proposed use: When a mortgage goes into default, the lender, may elect to file with the Department a claim for insurance benefits. 12 U.S.C. 1713(g) and title II, section 207(g) of the National Housing Act provides that, the “mortgagee shall be entitled to receive the benefits of the insurance as hereinafter provided, upon assignment, transfer, and delivery to the Secretary, within a period and in accordance with rules and regulations to be prescribed by the Secretary of all rights and interest arising under the mortgage in default: * * * at its option and in accordance with regulation, and in a period to be determined by the Secretary, proceed to foreclosure on and obtain possession of or other wise acquire such property after default and receive the benefits of the insurance as herein provided upon prompt conveyance to the Secretary the title of the property * * *” Within 24 to 48 hours after an assignment or conveyance, the Secretary may pay to the mortgagee a partial amount of insurance benefits. This payment is made prior to the mortgagee filing the claim for insurance benefits. The information collected on the subject form, HUD-2537 (Mortgagee's Application for Partial Settlement-Multifamily Mortgage) provides the required data to determine the partial amount. The partial amount is computed in accordance with foregoing statutory provisions and regulations promulgated there under in 24 CFR 207(B), Contract rights and Obligations.

Agency form numbers, if applicable: HUD-2537.

Estimation of the total number of hours needed to prepare the information collection including number of respondents, frequency of response, and hours of response: The estimated number of respondents is 215, frequency of responses is one per claim submission, with an estimated time of 15 minutes to complete. Therefore, the total annual burden hours requested is 54.

Status of the proposed information collection: Reinstatement, without change, of previously approved collection for which approval has expired.

Authority: The Paperwork Reduction Act of 1995, 44 U.S.C., chapter 35, as amended.

Dated: March 1, 2004.
Sean G. Cassidy,
General Deputy Assistant Secretary for Housing-Deputy Federal Housing Commissioner.

[FR Doc. 04-5309 Filed 3-9-04; 8:45 am]

BILLING CODE 4210-27-M